GENERAL SERVICES ADMINISTRATION

41 CFR Parts 300-3, 301-10, and 301-70

[FTR Case 2014-302; Docket 2014-0014, Sequence 1]

RIN 3090-AJ48

Federal Travel Regulation; Enhancement of Privately Owned Vehicle and Rental Vehicle Policy

AGENCY: Office of Government-wide Policy (OGP), General Services Administration (GSA).

ACTION: Proposed rule.

SUMMARY: GSA is proposing to amend the Federal Travel Regulation (FTR) by requiring agencies to have an internal policy for determining whether to authorize a privately owned vehicle (POV), as opposed to a rental car, in conjunction with temporary duty travel (TDY). Further, GSA proposes to specify that travelers, who have been authorized to travel via common carrier or rental car, and choose to use a POV instead, will be reimbursed at the applicable POV mileage rate. Also, this amendment proposes to add specific provisions addressing the type of rental vehicles travelers must use, as well as pre-paid refueling options and other rental car surcharges. Finally, this amendment proposes to make certain miscellaneous corrections, where applicable.

DATES: Interested parties should submit written comments to the Regulatory Secretariat at one of the addresses shown below on or before December 19, 2014 to be considered in the formation of the final rule.

ADDRESSES: Submit comments identified by FTR Case 2014-302 by any of the following methods:

• Federal eRulemaking Portals: http://www.regulations.gov. Submit comments via the Federal eRulemaking portal by searching for “FTR Case 2014-302.” Select the link “Comment Now” that corresponds with “FTR Case 2014-302” and follow the instructions provided at the screen. Please include your name, company name (if any), and “FTR Case 2014-302” on your attached document.

• Fax: 202-208-1398.

• Mail: General Services Administration, Regulatory Secretariat (MVCB), Attn. Ms. Hada Flowers, 1800 F Street NW., Washington, DC 20405.

Instructions: Please submit comments only and cite FTR Case 2014-302 in all correspondence related to this case. All comments received will be posted without change to http://www.regulations.gov, including any personal information provided.

FOR FURTHER INFORMATION CONTACT: For clarification of content, contact Mr. Cy Greenidge, Program Analyst, Office of Government-wide Policy, at 202-219-2349. Contact the Regulatory Secretariat (MVCB), 1800 F Street NW., Washington, DC 20405, 202-501-4755, for information pertaining to status or publication schedules. Please cite FTR case 2014-302.

SUPPLEMENTARY INFORMATION:

A. Background

The FTR already provides for determining when the use of a POV or rental vehicle in conjunction with TDY could be advantageous to the Government (see FTR Part 301-10, Subparts D and E, and Part 301-70, Subpart B). The FTR also advises that when using a rental vehicle, travelers should consider renting a vehicle from a vendor that participates in the Defense Travel Management Office's (DTMO) U.S. Government Car Rental Agreement to avail themselves of the Agreement's benefits (see FTR section 301-10.450). It has been determined that more specific guidance regarding the use of POVs and rental cars will save agencies money when authorizing employees to travel. This proposed rule provides that agencies must have an internal policy for determining whether to authorize a POV, as opposed to a rental car, in conjunction with TDY. Additionally, GSA proposes specifying that travelers who have been authorized by their agencies to travel via common carrier or rental car, and choose to use a POV instead, will be reimbursed at the applicable POV mileage rate up to the constructive cost of the authorized mode of transportation plus per diem. Further, this amendment proposes that travelers who are authorized to use a rental car in conjunction with TDY must use the least expensive compact car available. This amendment also proposes that travelers will not be reimbursed for pre-paid refueling options for rental cars. Moreover, this amendment proposes that agencies may not reimburse travelers surcharges involved when rental car companies purchase miles from airlines and provide those miles to their vehicle customers. Finally, this amendment also proposes to make certain miscellaneous corrections, where applicable.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This proposed rule is not a significant regulatory action, and therefore, was not subject to review under Section 6(b) of E.O. 12866, Regulatory Planning and Review, dated September 30, 1993.

C. Regulatory Flexibility Act

This proposed rule would not have a significant economic impact on a substantial number of small entities within the meaning of the Regulatory Flexibility Act, 5 U.S.C. 601, et seq. This proposed rule is also exempt from the Administrative Procedure Act pursuant to 5 U.S.C. 553(a)(2) because it applies to agency management or personnel.

D. Paperwork Reduction Act

The Paperwork Reduction Act does not apply because the proposed changes to the FTR do not impose recordkeeping or information collection requirements, or the collection of information from offerors, contractors, or members of the public that require the approval of the Office of Management and Budget (OMB) under 44 U.S.C. 3501, et seq.

E. Small Business Regulatory Enforcement Fairness Act

This proposed rule is also exempt from Congressional review prescribed under 5 U.S.C. 801. This proposed rule is not a major rule under 5 U.S.C. 804.

List of Subjects in 41 CFR Parts 300-3, 301-10, and 301-70

Administrative practices and procedures, Government employees, Travel and transportation expenses.

Dated: August 14, 2014.
Christine J. Harada,
Associate Administrator, Office of Government-wide Policy.

For the reasons set forth in the preamble, pursuant to 5 U.S.C. 5701-5711, GSA proposes to amend 41 CFR parts 300-3, 301-10, and 301-70 as set forth below:

PART 300-3—GLOSSARY OF TERMS

1. The authority citation for 41 CFR part 300-3 is revised to read as follows:

Authority: 5 U.S.C. 5707; 40 U.S.C. 121(c); 49 U.S.C. 40118; 5 U.S.C. 5738; 5 U.S.C. 5741-5742; 20 U.S.C. 905(a); 31 U.S.C. 1353; E.O. 11609, as amended, 3 CFR, 1971-1975 Comp., p. 586, OMB Circular No. A-126, revised May 22, 1992.

§ 300-3.1 [Amended]

2. Amend § 300-3.1 by—

a. In the term “Government-furnished automobile”, removing the word “furnished” and adding the word “owned” in its place and by adding the acronym “(GOA)” after the word “automobile”.

b. In the term and definition for “Government-furnished vehicle”, removing the word “furnished” and adding the word “owned” wherever it appears.

c. In newly revised term “Government-owned vehicle”, adding “(GOV)” after the word “vehicle”.

PART 301-10—TRANSPORTATION EXPENSES

3. The authority citation for 41 CFR part 301-10 continues to read as follows:

Authority: 5 U.S.C. 5707; 40 U.S.C. 121(c); 49 U.S.C. 40118; OMB Circular No. A-126, revised May 22, 1992.

4. Amend § 301-10.5 by adding new paragraphs (c) and (d) to read as follows:

§ 301-10.5 What are the presumptions as to the most advantageous method of transportation by order of precedence?

* * * * *

(c) Rental car. If no Government-owned automobile is available, but your agency has determined that travel must be performed by automobile, then a rental car should be authorized.

(d) Privately Owned Vehicle (POV). POV's should be determined to be the most advantageous method of transportation only after your agency evaluates the use of a common carrier, a Government-owned automobile, and a rental car.

5. Revise the undesignated center heading preceding § 301.10-220 to read as follows:

Government Owned Automobiles (GOA)

§ 301-10.309 [Amended]

6. Amend § 301-10.309 by—

a. Adding the words “or a rental vehicle” after the word “transportation” in the section heading.

b. Adding the words “the applicable POV rate” after the word “reimbursed” in the body.

7. Amend § 301-10.450 by revising the section heading and adding paragraphs (c), (d), and (e) to read as follows:

§ 301-10.450 What are the policies when authorized to rent a vehicle for official travel?

* * * * *

(c) Travelers must use the least expensive compact car available, unless an exception for another class of vehicle is approved. Agencies should approve these exceptions on a limited basis and must indicate on the travel authorization the reason for the exception. Your agency may authorize the use of other than a compact car if any of the following apply:

(1) When use of other than a compact car is necessary to accommodate a medical disability or other special need.

(i) A disability must be certified annually in a written statement by a competent medical authority. However, if the disability is a lifelong condition, then a one-time certification statement is required. Certification statements must include at a minimum:

(A) A written statement by a competent medical authority stating that special accommodation is necessary;

(B) An approximate duration of the special accommodation; and

(C) A recommendation as to the suitable class of rental vehicle based on the disability.

(ii) A special need must be certified annually in writing according to your agency's procedures. However, if the special need is a lifelong condition, then a one-time certification statement is required;

(iii) If you are authorized under § 301-13.3(a) to have an attendant accompany you, your agency may authorize the use of other than a compact car if deemed necessary by your agency.

(2) When required because of agency mission, consistent with your agency's internal procedures pursuant to § 301-70.102(i).

(3) When the cost of other than a compact car is less than or equal to the cost of the least expensive compact car.

(4) When additional room is required to accommodate multiple employees authorized to travel together in the same rental vehicle.

(5) When travelers must carry a large amount of Government material incident to their official business, and a compact rental vehicle does not contain sufficient space.

(d) Travelers will not be reimbursed for purchasing pre-paid refueling options for rental cars. Therefore, travelers should refuel prior to returning the rental vehicle to the drop-off location.

(e) Travelers will not be reimbursed for fees associated with rental car loyalty points or the transfer of points charged by car companies.

PART 301-70—INTERNAL POLICY AND PROCEDURE REQUIREMENTS

8. The authority citation for 41 CFR part 301-70 continues to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

9. Amend § 301-70.101 by revising paragraph (b) to read as follows:

§ 301-70.101 What factors must we consider in determining which method of transportation results in the greatest advantage to the Government?

* * * * *

(b) Travel by common carrier (air, rail, bus) is considered the most advantageous method to perform official travel. Other methods of transportation may be authorized as advantageous only when the use of common carrier transportation would interfere with the performance of official business or impose an undue hardship upon the traveler, or when the total cost by common carrier exceeds the cost by another method of transportation. When this occurs, the relative total costs of using a GOA, the least expensive compact rental vehicle, and a POV should all be considered in determining which transportation method is the most advantageous to the Government. The relative costs of using a POV would only come into play if the employee chooses to use a POV since agencies cannot mandate employees to use their POV for official reasons. A determination that another method of transportation is more advantageous to the Government than common carrier transportation will not be made on the basis of personal preference or inconvenience to the traveler.

10. Amend § 301-70.102 by revising paragraphs (d), (f), and (i) to read as follows:

§ 301-70.102 What governing policies must we establish for authorization and payment of transportation expenses?

* * * * *

(d) When you will consider use of a POV advantageous to the Government, such as travel to and from common carrier terminals or to the TDY location. When determining whether the use of a POV to a TDY location is the most advantageous method of transportation, agencies must consider the total cost of using a POV as compared to the total cost of using a rental vehicle, including rental costs, fuel, taxes, parking (at a common carrier terminal, etc.), and any other associated costs;

* * * * *

(f) Procedures for allowing the use of a special conveyance (e.g., commercially rented vehicles), taking into account the requirements of § 301-10.450;

* * * * *

(i) Develop and issue internal guidance on what specific mission criteria justify approval of the use of other than coach-class transportation under §§ 301-10.123(a)(4), 301-10.123(b)(9), and 301-10.162(e), the use of other than lowest first-class under § 301-10.183(d), and the use of other than a compact rental car under § 301-10.450(c). The justification criteria shall be entered in the remarks section of the traveler's authorization.

* * * * *

§§ 301-10.5, 301-10.200, 301-10.220, 301-10.310 and 301-70.104 [Amended]

11. Amend §§ 301-10.5, 301-10.200, 301-10.220, 301-10.310 and 301-70.104 by removing the terms “Government automobile” and “Government-furnished automobile” wherever they appear and adding “GOA” in its place.

[FR Doc. 2014-24498 Filed 10-17-14; 8:45 am]

BILLING CODE 6820-14-P